DEPARTMENT OF AGRICULTURE

Natural Resources Conservation Service

Notice of Intent To Prepare an Environmental Impact Statement for the Henrys Fork Salinity Control Project Plan, Sweetwater and Uinta Counties, WY; Daggett and Summit Counties, UT

AGENCY: Natural Resources Conservation Service, Department of Agriculture.

ACTION: Notice.

SUMMARY: Pursuant to section 102(2)(c) of the National Environmental Policy Act, 42 U.S.C. 4321-4370d (NEPA), as implemented by the Council of Environmental Quality regulations (40 CFR parts 1500-1508), the Natural Resources Conservation Service (NRCS) announces their intent to prepare an Environmental Impact Statement (EIS) for the Henrys Fork Salinity Control Project Plan (SCPP). The NRCS will be the lead agency. A public and agency scoping meeting to discuss issues, actions, alternatives and impacts as well as to solicit input verbally and in writing will be conducted. The lead and cooperating agencies invite and encourage agencies and the public to provide written comments on the proposed SCPP throughout the scoping process to ensure that all relevant environmental issues are considered.

DATES: Meeting Date: A public and agency scoping meeting will be held at 6:30 p.m., Tuesday, August 30, 2011. Comment Date: Persons or organizations wishing to submit scoping comments should do so no later than September 30, 2011.

ADDRESSES: Meeting Address: The public and agency scoping meeting will be held at McKinnon Elementary School, 10 Old Highway 414 # 10A, McKinnon, Wyoming.

Comment submissions: Written comments on the scope of the EIS for the Henrys Fork SCPP may be submitted using any of the following methods:

Government-wide rulemaking Web site: http://www.regulations.gov. Follow the instructions for sending comments electronically.

Mail: Attention: Rachel Bundschuh, Natural Resources Conservation Service, 508 North Broadway Avenue, Riverton, Wyoming 82501-3458.

E-mail: rachel.bundschuh@wy.usda.gov.

FOR FURTHER INFORMATION CONTACT: Jeff Lewis of the NRCS at (307) 787-3211, 100 East Sage Street, P.O. Box 370, Lyman, Wyoming 82937-0370, E-mail: jeff.lewis@wy.usda.gov.

SUPPLEMENTARY INFORMATION: Proposed Action: The “Irrigation System Improvements” alternative assumes a salinity control project will be implemented. Existing financial and technical assistance programs will continue to operate as they have in the past. However, the “Irrigation System Improvements” alternative will increase the available Federal funds for assistance. It is assumed that on-farm irrigation water management will improve due to an increase in technical assistance provided by the NRCS field office.

Through implementation of a SCPP, on-farm irrigation application system improvements will occur at an accelerated rate as producers voluntarily sign up for improved irrigation systems. It is estimated that through this alternative 74 percent of the irrigated acres in the project area will have improved irrigation systems. Most of the surface irrigation systems will be converted to side roll, center pivot, and pod sprinkler systems. The remaining 26 percent of irrigated acres will continue as unimproved irrigation systems.

A limited amount of on-farm delivery ditches that transport irrigation water from the canal to the field will be improved by converting from dirt ditch to buried pipe. This will reduce seepage and salt loading from these delivery ditches by 99 percent. Canal modifications (i.e. conversion to pipeline or canal lining) are not included in this SCPP.

Currently, approximately 70,790 acre-foot of water are used for irrigation in the project area. This includes water directly diverted from streams and water stored in reservoirs. The irrigation system improvements outlined in this plan will provide more efficient use of this water. Deep percolation from the 14,800 acres is expected to be treated though the project action, reducing it by approximately 58 percent. The Colorado River salt loading attributed to this project area will be reduced by the reduction of excess deep percolation passing below the plant root zone. Deep percolation of irrigation water results in concentrating and transporting salt in groundwater to the surface and eventually depositing in the Colorado River.

This proposal is not intended to bring new land under irrigation or to provide water to fields that have been infrequently or marginally irrigated. Any project measure proposed on lands without an adequate irrigation history will not be considered for funding without prior approval by the appropriate state water authority.

Alternatives: The other alternative presently considered is the “No-Action” Alternative. Under this alternative accelerated improvements to the on-farm irrigation systems will not be implemented. Environmental conditions, including salt loading into associated tributaries will continue unhindered.

Scoping: The lead and cooperating agencies will conduct an open scoping and public involvement process during the development of the EIS. The scoping process is the key to preparing a concise EIS to receive public input on the alternatives to the proposed action and the range of issues to be addressed in the EIS. The purpose of the scoping meetings is to assist the lead and cooperating agencies in defining the issues that will be evaluated in the EIS. A public meeting was held in McKinnon on December 9, 2009 where input on the project was obtained. A second public and agency scoping meeting will be held as indicated above (see DATES and ADDRESSES sections above). Further information will be published in local newspapers in advance of the meeting. Any necessary changes will be announced in the local media. Written scoping comments will be considered in the preparation of the draft EIS (see DATES and ADDRESSES sections above). Comments postmarked or received by e-mail after specified date will be considered to the extent practicable. Questions about the EIS/SCPP, requests for inclusion on the EIS/SCPP mailing list, and requests for copies of any documents associated with the draft EIS/SCPP should be directed to Rachel Bundschuh, Natural Resources Conservation Service, 508 North Broadway Avenue, Riverton, Wyoming 82501-3458; E-mail: rachel.bundschuh@wy.usda.gov; Phone: (307) 856-7524, ext. 121.

Dated: August 9, 2011.
J. Xavier Montoya,
State Conservationist.

[FR Doc. 2011-20589 Filed 8-11-11; 8:45 am]

BILLING CODE 3410-16-P